ENVIRONMENTAL PROTECTION AGENCY

[FRL-7376-8]

Notice of Request for Proposals for Projects To Be Funded From the FY 03 Wetland Program Development Cooperative Agreement Allocation

AGENCY: Environmental Protection Agency (EPA).

ACTION: Notice.

SUMMARY: EPA Region 6 is soliciting proposals from State agencies, local governments, and Tribes interested in applying for Federal assistance for the State/Tribal/Local Government Wetlands Protection Development Grant Program under the Clean Water Act section 104(b)(3), 33 U.S.C.1254(b)(3) in the states of Arkansas, Louisiana, New Mexico, Oklahoma and Texas. EPA Region 6 estimates $1.3 million will be awarded to eligible applicants through assistance agreements. The State, Tribe or local government must provide a 25 percent (25%) match of the total costs of the project. 15 percent (15%) of the funding allocation will be targeted to support local and tribal initiatives.

DATES: EPA Region 6 will consider all proposals post marked by November 1, 2002. Proposals received after the due date will not be considered for funding, (no exceptions will be made). Once the proposal is approved for further funding consideration, applicants will be notified to submit a formal application.

ADDRESSES: Send proposals along with the cover sheet included in this notice to: Sondra McDonald (6WQ-AT), U.S. Environmental Protection Agency, Region 6, 1445 Ross Avenue, Dallas, Texas 75202-2733.

FOR FURTHER INFORMATION CONTACT: Sondra McDonald by telephone at 214-665-7187 or by E-mail at Mcdonald.sondra@epa.gov. This solicitation notice can also be found at the Assistance Program Branch, State/Tribal Programs Section Web site: www.epa.gov/earth1r6/6wq/at/sttribal.htm. Or please refer to the National guidelines for the Wetlands Program Development Grants which are published in the August 26, 2002, Federal Register or can be viewed at the following web site: http://www.epa.gov/owow/wetlands/grantguidelines.

SUPPLEMENTARY INFORMATION:

What Is the Purpose of this Request for Proposals?

The purpose of Wetland Development Grants is to assist States, Tribes, and Local Governments with developing new wetland programs or refining existing wetland programs, and NOT for operational support of wetland programs. Reviewers will pay special attention to the project's longevity and self-sustaining ability. Additional points may be given to implementation projects that actually demonstrate protection, restoration or enhancement of wetlands. If a proposal does not meet EPA Headquarters or Region 6 priorities, the proposal will not be ranked. The following types of projects will be considered for funding:

Project Implementation

• Clean Water Action Plan (CWAP): Projects relating to meeting wetland goals set forth within the plan, namely a net increase of 100,000 acres per year by the year 2005. Preference will be given to projects that seek to develop self-sustaining, naturally functioning wetland systems.(web page: http://www.cleanwater.gov)

• Watershed Projects:

a. Wetland components of established watershed plans

b. Coastal wetland protection/restoration especially within estuaries areas

• Targeted (but not limited) Wetland Types: projects relating to the protection /restoration of riparian areas, sea grasses, and bottomland hardwoods.

• Stream Management:

a. Alternatives to traditional engineering (i.e. such as development of natural stream patterned profiles instead of trapezoidal channels; use of vegetated natural materials for bank stabilization instead of harder structures like rip rap or concrete)

b. Utilizing alternative techniques such as applied fluvial geomorphology

c. Stream management education to include such activities as training and planning in urban/suburban areas

d. Formation of stream team (interagency workgroups designed to evaluate stream modification projects during planning phase) to work with local planning officials to protect/restore streams and wetlands by the use of demonstration projects

• Continued Development and Implementation of Wetland Protection Programs: specifically projects that seek to develop and/or implement statewide/tribal-nationwide programs to assess and monitor overall wetland health and for programs that protect or restore wetlands with the active involvement of local communities. Also, State/Tribal development of wetland assessment/monitoring tools to be utilized in a formal program to assess and monitor overall wetland health.

• Protection of “SWANCC” isolated wetlands through the development of State, Tribal or Local government regulations incentives and/or long term conservation measures.

• Development and Implementation of Tribal Wetlands and Stream Corridor Conservation Plans: emphasis on wetlands, riparian and stream resources.

Education/Outreach

Recognizing the importance of public education in wetland protection and management, Region 6 has sought to help S/T/LG improve the public's access to, and education about wetland information. WPDG projects can be used to develop outreach programs, and can also be used to create innovative educational tools for the public. The production of outreach materials alone is not eligible for funding.

a. Programs which are designed to increase awareness and the importance of wetlands to local governments, general public, landowners, and private sector through the use of partnerships, training and/or seminars.

b. Programs which promote wetland education in schools, universities, and youth organizations.

c. Examples of past outreach/education projects funded through the WPDG include:

—Conducting outreach and education efforts aimed at improving public understanding of wetland protection and regulatory efforts

—Development of outreach programs to inform owners of potential wetland restoration sites of governmental assistance programs

—Creating public education programs which promote wetland information for American Wetlands month

—Creating programs for use of the internet and other technologies for educating the public about wetlands

Partnership Restoration Projects

a. Projects must involve diverse partnerships of ideally five organizations (private sector government, or non-government), that contribute funding, land, technical assistance workforce support, and/or other in-kind services.

b. Projects may be a discrete part of a larger restoration effort.

c. Preference will be given to projects that are part of a larger watershed or community stewardship effort; include specific provisions for long-term management and projection; and demonstrate the value of innovative, collaborative approaches to restoring the nation's waters.

d. Projects must include a strong on-the-ground wetland or riparian component, and should also include education, outreach and community stewardship.

e. Projects must demonstrate measurable ecological, educational, social and/or economic benefits resulting from the completion of the project.

f. Projects that are part of a mitigation requirement are NOT eligible for funding.

Schedule of Activities

September 16, 2002—Target Date for Region 6 to distribute grant solicitation notice.

August 1, 2002-October 11, 2002—Region 6 staff has set-aside this time to assist applicants in preparing more competitive proposals. Contact Donna Mullins 214-665-7576.

November 1, 2002—Proposals must be POSTMARKED by this date, or they will not be accepted. Certified mail is recommended, and keep documentation.

November 12, 2002-December 31, 2002—Review Committee evaluates proposals.

January 24, 2003—Letters are sent requesting formal applications from selected proposals.

March 14, 2002—Formal applications must be POSTMARKED by this date, or they will not be accepted. Certified mail is recommended and keep documentation.

April-July 2003—Awarding of grants and Congressional notification to recipients.

Proposal Format and Contents

A proposal is different from a work plan. Region 6 staff has set-aside August 1, 2002 through October 11, 2002 to assist applicants in preparing a more competitive proposal. Please contact Ms. Donna Mullins at 214-665-7576 to arrange for a pre-proposal meeting/review. If you are unsure of any section or criteria, please call Region 6 BEFORE you submit your package. Keep in mind this is a competitive process, and adherence to the proposal guidelines is part of the selection criteria. As a front cover for the proposal, please use the form below. The cover does not count as a page. The proposal should contain the following information, with a maximum of five (5) one sided pages:

1. Title;

2. Introduction with brief background, goals, and objectives;

3. Overview of project, listing each task and deliverable. Give specific information concerning the task, explaining how it will be accomplished, how it relates to the overall project, and how the progress will be monitored;

4. A plan view map (this will not count as one of the five pages);

5. Any use of contractors must be included and explained. Guidance precludes greater than a 50% pass through to contractors, and specifies significant involvement of grant recipient.

6. Proposed costs, broken down by task, including contractor's costs by task;

7. Identify measures of success, including clear milestones with expected dates. Include the number of wetland acres affected by project;

8. Include a public participation element (40 CFR part 25) in the proposal which reflects how public participation will be provided, encouraged, and assisted. Include a full description of its interagency and public participation process. This process should go beyond the input stage and include information and methods of sharing throughout the project period;

9. There should be concrete demonstration of coordination/partnership among various agencies. This can be accomplished in various ways, including a written agreement with agencies outlining responsibilities and commitment to the project; and,

10. Region 6 requires a 25% match of the total project cost. The proposal needs to show the Federal assistance amount you are requesting from EPA, 25% minimum agency match, and the total amount for the project. Use the following formula: requested EPA amount divided by 75% equals the total amount for the project. Subtract the EPA amount from the total, and that is the minimum, required match. Your match may exceed 25%. (EXAMPLE: EPA amount $50,000; project total is $66,667; required 25% match is $16,667)

11. Explain if your agency has a Quality Management Plan (QMP). If you project contains environmental measurements, a QMP must be approved by EPA before any money can be awarded.

12. Identify if there are any known threatened or endangered species and/or cultural resource concerns.

BILLING CODE 6560-50-P

BILLING CODE 6560-50-C

How the Proposals Are Reviewed and Ranked

The Selection Committee reviews each proposal with the following criteria in mind. Each area has a numerical value, with an opportunity for a narrative response. The points of each reviewer for each proposal are totaled, comments are added, then each proposal is given an average. The Committee meets to discuss each proposal and review the results of scoring. The proposals with the highest ranking, up to the estimated amount of funding, are selected. Upon approval of management, formal applications are then requested from the selected applicants.

Proposal Evaluation Criteria

• 1. Does the project meet one or more of the Regional priorities? If not, has the applicant justified the need for the project?

• 2. Does the project have transferability to other State/Tribes/Local governments?

• 3. Did applicant follow proposal guidelines? Did it address all components?

• 4. What is the applicant's past performance, if applicable?

• 5. Is the budget reasonable and appropriate?

• 6. What are the potential environmental results? Does it result in physical, natural restoration? Are the environmental results immediate or long term? How many acres of wetlands are enhanced, restored, created?

• 7. What is the outreach/educational value of the project?

• 8. What is the likelihood of success? Can the project be realistically accomplished?

• 9. Does the project have durable and sustainable characteristics; in other words, will it outlive the project period?

• 10. Is the project part of an approved State Wetlands Conservation Plan?

Oscar Ramirez, Jr.,
Acting Director, Water Quality Protection Division.

[FR Doc. 02-23365 Filed 9-12-02; 8:45 am]

BILLING CODE 6560-50-P